DEPARTMENT OF LABOR

Employment and Training Administration

[TA-W-63, 201]

Mpc Computers, LLC; La Vergne, TN; Notice of Termination of Investigation

Pursuant to section 221 of the Trade Act of 1974, as amended, an investigation was initiated on April 15, 2008 in response to a petition filed by a company official on behalf of workers at MPC Computers, LLC, La Vergne, Tennessee. The workers at the subject facility produce computers.

The petitioner has requested that the petition be withdrawn. Consequently, the investigation has been terminated.

Signed in Washington, DC, this 17th day of April 2008.
Richard Church
Certifying Officer, Division of Trade Adjustment Assistance.

[FR Doc. E8-8773 Filed 4-22-08; 8:45 am]

BILLING CODE 4510-FN-P